DEPARTMENT OF TRANSPORTATION

Federal Aviation Administration

Public Notice for Waiver of Aeronautical Land-Use Assurance

AGENCY: Federal Aviation Administration (FAA), DOT.

ACTION: Notice of intent of waiver with respect to land; Kivalina Airport, Kivalina, Alaska.

SUMMARY: The FAA is considering a proposal to change 2.31 acres of airport land from aeronautical use to non-aeronautical use and to authorize the construction of a public use road on airport property located at Kivalina Airport, Kivalina, Alaska. The aforementioned land is not needed for aeronautical use.

The community of Kivalina is located on a barrier island in the Arctic Ocean. Currently the only access to the community is via airplane or boat. The State of Alaska, owner and sponsor of the Kivalina Airport, is requesting the land use change be allowed to accommodate construction of a surface evacuation route (bridge/road) to the mainland. FAA environmental analysis for this action is pending.

DATES: Comments must be received on or before August 1, 2018.

ADDRESSES: Documents are available for review by appointment at the FAA Anchorage Airports Regional Office, Molly Lamrouex, Compliance Manager, 222 W 7th Avenue, Anchorage, AK. Telephone: (907) 271-5439/Fax: (907) 271-2851 and the State of Alaska Department of Transportation and Public Facilities, Fairbanks Office, 2301 Peger Road, Fairbanks, AK. Telephone: (907) 451-5226.

Written comments on the Sponsor's request must be delivered or mailed to: Molly Lamrouex, Compliance Manager, Federal Aviation Administration, Airports Anchorage Regional Office, 222 W 7th Avenue, Anchorage AK 99513, Telephone Number: (907) 271-5439/FAX Number: (907) 271-2851.

FOR FURTHER INFORMATION CONTACT: Molly Lamrouex, Compliance Manager, Federal Aviation Administration, Alaskan Region Airports District Office, 222 W 7th Avenue, Anchorage, AK 99513. Telephone Number: (907) 271-5439/FAX Number: (907) 271-2851.

SUPPLEMENTARY INFORMATION: In accordance with section 47107(h) of Title 49, United States Code, this notice is required to be published in the Federal Register 30 days before modifying the land-use assurance that requires the property to be used for an aeronautical purpose.

The property is located south of the existing runway outside of the runway protection zone. The land was acquired via patent transfer from the federal government in 1963. The sponsor proposes to allow construction of a community road for no fee to accommodate emergency evacuation of the residents.

The disposition of proceeds from the lease of the airport property will be in accordance with FAA's Policy and Procedures Concerning the Use of Airport Revenue, published in the Federal Register on February 16, 1999 (64 FR 7696).

This notice announces that the FAA is considering the release of the subject airport property at the Kivalina Airport, Kivalina, Alaska from its obligations to be maintained for aeronautical purposes. Approval does not constitute a commitment by the FAA to financially assist in the change in use of the subject airport property nor a determination of eligibility for grant-in-aid funding from the FAA.

The proposed release area includes 2.31 acres for the proposed road alignment through the south end of airport property tract I.

Issued in Anchorage, Alaska, on June 26, 2018.
Kristi Warden,
Acting Director, Alaskan Airports Regional Office, FAA, Alaskan Region.

[FR Doc. 2018-14195 Filed 6-29-18; 8:45 am]

BILLING CODE 4910-13-P